DEPARTMENT OF HOMELAND SECURITY

U.S. Customs and Border Protection

[1651-0088]

Agency Information Collection Activities: Passenger and Crew Manifest

AGENCY: U.S. Customs and Border Protection (CBP), Department of Homeland Security.

ACTION: 30-Day notice and request for comments; revision of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies. Comments are encouraged and must be submitted (no later than September 28, 2020) to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (85 FR 29469) on May 15, 2020, allowing for a 60-day comment period. This notice allows for an additional 30 days for public comments. This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Passenger and Crew Manifest (Advance Passenger Information System).

OMB Number: 1651-0088.

Form Number: None.

Abstract: The Advance Passenger Information System (APIS) is an automated method in which U.S. Customs and Border Protection (CBP) receives information on passengers and crew onboard inbound and outbound international flights and commercial vessels before their arrival in, or departure from, the United States. APIS data includes biographical information for travelers arriving in or departing from the United States, allowing the data to be checked against CBP databases to target for high-risk travelers and facilitate legitimate travel for the general public.

The information is submitted for both commercial and private aircraft flights, commercial vessels, and voluntarily for some rail carriers and bus carriers. Specific data elements required for each passenger and crew member include: Full name; date of birth; gender; citizenship; travel document type; passport number; country of issuance and expiration date; and alien registration number where applicable. The statutory authority for APIS includes the Aviation and Transportation Security Act, Public Law 107-71, 115 Stat. 597 (49 U.S.C. 44909). The APIS regulatory requirements for air carriers are specified in 19 CFR 122.49a, 122.49b, 122.49c, 122.75a, 122.75b, and 122.22. These provisions list the required APIS data.

Respondents submit their electronic manifest either through a direct interface with CBP, or using eAPIS which is a web-based system that can be accessed at https://eapis.cbp.dhs.gov/.

Current Actions: This submission is being made to revise this collection of information to include bus and rail carriers into this OMB control number.

Proposed Changes

CBP is currently running a pilot with nine respondents in which bus carriers are submitting passenger manifest data voluntarily to assist CBP in the development of the Land Pre-Arrival System (LPAS) application. The LPAS application will improve the current method of transmission by allowing carriers to scan the Machine-Readable Zone (MRZ) of travelers' documents which will result in time-savings for the carriers and increased accuracy for CBP. CBP would like to revise this information collection to include bus and rail respondents which would allow CBP to expand the bus pilot beyond the current nine respondents, as well as make the LPAS application available to pilot for rail carriers in the future.

For this pilot, bus carriers submit their APIS information to CBP via Land Pre-Arrival System Application (LPAS), embedded in the CBP ROAM application which is available free of charge for Android and Apple mobile devices.

In the LPAS application, the collection of traveler information is primarily done through electronic submission. The bus carrier designee submits traveler information by scanning the MRZ of each traveler's document which is automatically loaded into the application. Should the MRZ not automatically transfer into the application, the bus carrier will manually input the traveler's document information. This is the only point at which information is collected from travelers for CBP.

The user registers bus as the mode of travel and is prompted to complete information on the company. Information includes:

• Mode of Travel (Bus)

• License Country

• Registration Province

• License Number

• Sender ID

• Carrier Code (APIS code assigned by CBP)

• Bus Company

Each carrier will be required to create a `Driver Profile' by entering in their documentation using the MRZ or manually. This profile is saved to be associated with each bus that the driver operates and will have to be selected prior to submitting the trip. The driver is prompted to enter his or her information, including:

• Name

• Date of Birth

• Sex

• Country of Citizenship

• Country of Residence

• Document Type

• Document Number

• Date of Issue

• Date of Expiration

• Country of Issue

This process is duplicated for all additional travelers boarding the bus. Each traveler profile is saved for the trip, but is deleted from the application immediately after the information is submitted to CBP.

Prior to submitting traveler information to CBP, the user must fill in required information about the trip. These fields include items such as:

• Arrival Location in the US

• Estimated Arrival Date

• Estimated Arrival Time

• Arrival Code (Port of Entry)

• Entry State

• Last Country Visited

• Contact Email

Previously, the ROAM application also permitted self-reported submission of information to CBP officers through a face-time feature. This self-reporting feature has been disabled for LPAS and will not be used at any time in conjunction with the Bus APIS pilot or the resulting program that arises from the pilot. The bus carrier, either through the bus driver, another employee, or a designated representative or service provider, will be the only party submitting data to CBP via the LPAS feature within the ROAM application. The basis for this decision arose out of the necessity to collect traveler information prior to arrival in the land environment as it is done in the air environment. For pre-arrival or pre-departure vetting and targeting to be conducted, officers must be able to collect information on travelers prior to their arrival at the border to promote officer safety and increase security. In air Ports of Entry, officers have access to traveler information 72 hours prior to arrival. However, this standard does not exist in the land environment, as travelers can board a bus within minutes of arriving at the border. In the air environment, airline carriers or their designated representatives or service providers are the users submitting traveler information. Therefore, in order to closely mirror this successful process, bus carriers will submit traveler data in the land environment. In order to reduce the burden of manual data entry, the LPAS feature includes a technology that reads the MRZ on a passport. As a result, the bus driver can simply scan a passenger's passport in order to populate the required data fields and accurately submit that data to CBP. CBP is considering the development of LPAS for rail carriers in the future.

Type of Review: Revision.

Affected Public: Businesses, Individuals.

Commercial Airlines

Estimated Number of Respondents: 1,130.

Estimated Number of Total Annual Responses: 1,850,878.

Estimated Time per Response: 10 minutes.

Estimated Total Annual Burden Hours: 307,246.

Commercial Airline Passengers (3rd party)

Estimated Number of Respondents: 184,050,663.

Estimated Number of Total Annual Responses: 184,050,663.

Estimated Time per Response: 10 seconds.

Estimated Total Annual Burden Hours: 496,937.

Private Aircraft Pilots

Estimated Number of Respondents: 460,000.

Estimated Number of Total Annual Responses: 460,000.

Estimated Time per Response: 15 minutes.

Estimated Total Annual Burden Hours: 115,000.

Commercial Passenger Rail Carrier

Estimated Number of Respondents: 2.

Estimated Number of Total Annual Responses: 9,540.

Estimated Time per Response: 10 minutes.

Estimated Total Annual Burden Hours: 1,590.

Bus Passenger Carrier

Estimated Number of Respondents: 9.

Estimated Number of Total Annual Responses: 309,294.

Estimated Time per Response: 15 minutes.

Estimated Total Annual Burden Hours: 77,324.

Dated: August 24, 2020.
Seth D. Renkema,
Branch Chief, Economic Impact Analysis Branch, U.S. Customs and Border Protection.

[FR Doc. 2020-18872 Filed 8-26-20; 8:45 am]

BILLING CODE P